ENVIRONMENTAL PROTECTION AGENCY

[FRL-7929-2]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held July 12-14, 2005 at the Hotel Washington, Washington, DC. The CHPAC was created to advise the Environmental Protection Agency on science, regulations, and other issues relating to children's environmental health.

DATES: The Science and Regulatory Work Groups will meet Tuesday, July 12. Plenary sessions will take place Wednesday, July 13 and Thursday, July 14.

ADDRESSES: Hotel Washington, 515 15th Street, NW., Washington, DC.

FOR FURTHER INFORMATION CONTACT: Contact Joanne Rodman, Office of Children's Health Protection, USEPA, MC 1107A, 1200 Pennsylvania Avenue, NW., Washington, DC 20460, (202) 564-2188, rodman.joanne@epa.gov.

SUPPLEMENTARY INFORMATION: The meetings of the CHPAC are open to the public. The Science and Regulatory Work Groups will meet Tuesday, July 12 from 9 a.m. to 5 p.m. The plenary CHPAC will meet on Wednesday, July 13 from 9 a.m. to 5:30 p.m., with a public comment period at 5 p.m., and on Thursday, July 14 from 9 a.m. to 11:45 a.m.

The plenary session will open with introductions and a review of the agenda and objectives for the meeting. Agenda items include highlights of the Office of Children's Health Protection (OCHP) activities and a presentation on EPA's Voluntary Children's Chemical Evaluation Program (VCCEP). Other potential agenda items include a presentation on Human Testing Policy.

Dated: June 22, 2005.
William H. Sanders,
Acting Director, Office of Children's Health Protection.

Draft Agenda

Tuesday, July 12, 2005

Work Group Meetings

Wednesday, July 13, 2005

9 Welcome, Introductions, Review Meeting Agenda

9:15 Highlights of Recent OCHP Activities

9:45 Science Work Group Status Report

10:45 Discussion: Climate Change Comment Letter

12 Lunch

1:30 Presentation: EPA's Voluntary Children's Chemical Evaluation Program

2:15 Regulatory Work Group Status Report

3:30 Discussion: Regulatory Work Group Comment Letters

5 Public Comment

5:30 Adjourn for the Day

Thursday, July 14, 2005

9 Discussion of Day One

9:15 Presentation: ANPRM on Human Testing Policy

10 Discuss and Agree on Recommendations

11:45 Wrap Up/Next Steps

[FR Doc. 05-12708 Filed 6-27-05; 8:45 am]

BILLING CODE 6560-50-P